DEPARTMENT OF HOMELAND SECURITY

Coast Guard

33 CFR Part 165

[Docket No. USCG-2023-0953]

Safety Zones; New Year's Fireworks Display, Hood Canal, Washington

AGENCY: Coast Guard, Department of Homeland Security (DHS).

ACTION: Notification of enforcement of regulation.

SUMMARY: The Coast Guard will a enforce safety zone surrounding the Alderbrook Resort dock involved in a fireworks display in Hood Canal, WA, from December 31, 2023, through January 1, 2024 to provide for the safety of life on navigable waterways during the event. Our regulation for marine events within the Thirteenth Coast Guard District identifies the regulated area for this event in Hood Canal, WA. During the enforcement period, the operator of any vessel in the regulated area must comply with directions from the Patrol Commander or any Official Patrol displaying a Coast Guard ensign.

DATES: The regulations in 33 CFR 165.1332 will be enforced for the Alderbrook Resort and Spa Fireworks regulated area identified in the fourth row of the table in § 165.1332, from 11 p.m. on December 31, 2023, through 1 a.m. on January 1, 2024.

FOR FURTHER INFORMATION CONTACT: If you have questions about this notification of enforcement, call or email MST1 Steve Barnett, Sector Puget Sound Waterways Management Division, U.S. Coast Guard; telephone 206-217-6051, email SectorPugetSoundWWM@uscg.mil.

SUPPLEMENTARY INFORMATION: The Coast Guard will enforce safety zone regulations in 33 CFR 165.1332 for the annual Alderbrook Resort and Spa Fireworks display in Hood Canal from 11 p.m. on December 31, 2023, through 1 a.m. on January 1, 2024. This action is being taken to provide for the safety of life on navigable waterways during this event. Our regulation for marine events within the Thirteenth Coast Guard District, § 165.1332, specifics the location of the regulated area for the Alderbrook Resort and Spa Fireworks display which encompasses portions of Hood Canal. During the enforcement periods, if you are the operator of a vessel in the regulated area you must comply with directions from the Patrol Commander or any Official Patrol displaying a Coast Guard ensign.

In addition to this notification of enforcement in the Federal Register, the Coast Guard plans to provide notification of this enforcement period via the Local Notice to Mariners.

Dated: December 12, 2023.
M.A. McDonnell,
Captain, U.S. Coast Guard, Captain of the Port Sector Puget Sound.

[FR Doc. 2023-27771 Filed 12-18-23; 8:45 am]

BILLING CODE 9110-04-P